DEPARTMENT OF DEFENSE

Department of the Army, Corps of Engineers

33 CFR Part 385

Programmatic Regulations for the Comprehensive Everglades Restoration Plan

AGENCY: Army Corps of Engineers, DOD.

ACTION: Notice of public meeting.

SUMMARY: The Army Corps of Engineers will hold public meetings in South Florida on the proposed rule to establish programmatic regulations for the Comprehensive Everglades Restoration Plan. Congress approved the Comprehensive Everglades Restoration Plan in section 601 of the Water Resources Development Act of 2000, Pub. L. 106541, 114 Stat. 2680, which was enacted into law on December 11, 2000. The Act requires the Secretary of the Army to promulgate programmatic regulations within two years to ensure that the goals and purposes of the Comprehensive Everglades Restoration Plan are achieved.

DATES: The public meetings are scheduled to begin at 7 p.m. as follows:

September 10, 2002—Miami, Florida

September 19, 2002—West Palm Beach, Florida

ADDRESSES: The meeting locations are:

For the September 10, 2002 meeting: Florida Memorial College, Banquet Hall, 15800 NW 42nd Ave, Miami, Florida.

For the September 19, 2002 meeting: South Florida Water Management District Headquarters Auditorium, 3301 Gun Club Road, West Palm Beach, Florida.

FOR FURTHER INFORMATION CONTACT: Stu Appelbaum, Corps of Engineers, Jacksonville District, at the above address, phone (904) 232-1877; fax (904) 899-5001. You may also access the programmatic regulations web page at: http://www.evergladesplan.org/pm/progr_regs.shtml/.

SUPPLEMENTARY INFORMATION: On August 2, 2002 the Army published the proposed rule to establish the programmatic regulations in the Federal Register. We will accept comments on the proposed rule until October 1, 2002. The proposed regulations establish processes and procedures that will guide the Army Corps of Engineers and its partners in the implementation of the Comprehensive Everglades Restoration Plan. The purpose of the public meetings is to provide the public the opportunity to make oral and/or written comments on the proposed rule to the Army Corps of Engineers. An electronic copy of the proposed rule is available from the Office of the Federal Register's home page at http://www.archives.gov/federal_register/index.html and from the programmatic regulations web page at: http://www.evergladesplan.org/pm/progr_regs_proposed_rule.shtml.

You may submit your comments on the proposed rule by any of several methods:

1. You may submit written comments to U.S. Army Corps of Engineers, ATTN: CESAJ-DR-R, P.O. Box 4970, Jacksonville, FL 32232-0019.

2. You may send comments by electronic mail (e-mail) to: proregs@usace.army.mil.

3. You may also submit comments through the Internet by completing a comment form on the programmatic regulations web page at; http://www.evergladesplan.org/pm/progr_regs_comment_form.shtml/.

If submitting comments by electronic format, please submit them in ASCII file format or Word file and avoid the use of special characters and any form of encryption. Please include your name and return e-mail address in your e-mail message. Please note that your e-mail address will not be retained at the termination of the public comment period.

Agenda of the Meeting

Each public meeting will begin with the Army Corps of Engineers providing a brief summary presentation on the proposed rule. Following the presentation, the public will be given the opportunity to speak. Speaker request cards will be available at the meeting for anyone wishing to speak.

Authority: Sec. 601, Pub. L. 106-541, 114 Stat. 2680; 10 U.S.C. 3013(g)(3); 33 U.S.C. 1 and 701; and 5 U.S.C. 301.

Dated: August 20, 2002.
R.L. Brownlee,
Under Secretary of the Army, Acting Assistant Secretary of the Army (Civil Works), Department of the Army.

[FR Doc. 02-21988 Filed 8-28-02; 8:45 am]

BILLING CODE 3710-92-M